DEPARTMENT OF TRANSPORTATION

Federal Aviation Administration

14 CFR Part 39

[Docket No. 2000-NE-47-AD; Amendment 39-12916; AD 2002-21-10]

RIN 2120-AA64

Airworthiness Directives; Pratt & Whitney PW4000 Series Turbofan Engines, Correction

AGENCY: Federal Aviation Administration, DOT.

ACTION: Final rule; request for comments, correction.

SUMMARY: This document makes corrections to Airworthiness Directive (AD) 2002-21-10, applicable to Pratt and Whitney (PW) model 4000 series turbofan engines, that was published in the Federal Register on October 25, 2002 (67 FR 65484). A publish date for service information was inadvertently omitted from one of the compliance paragraphs in the regulatory information. Also, the same service information was inadvertently omitted from the table for Documents That Have Been Incorporated by Reference and the paragraph that follows the table. This document corrects these omissions. In all other respects, the original document remains the same.

EFFECTIVE DATE: November 12, 2002. The incorporation by reference of certain publications listed in the rule is approved by the Director of the Federal Register as of December 6, 2002.

FOR FURTHER INFORMATION CONTACT: Diane Cook, Aerospace Engineer, Engine Certification Office, FAA, Engine and Propeller Directorate, 12 New England Executive Park, Burlington, MA 01803-5299; telephone (781) 238-7133, fax (781) 238-7199.

SUPPLEMENTARY INFORMATION: A final rule; request for comments FR Doc. 02-26909, airworthiness directive applicable to Pratt and Whitney (PW) model 4000 series turbofan engines, was published in the Federal Register on October 25, 2002 (67 FR 65484). The following corrections are needed:

§ 39.13 [Corrected]

On page 65491, in the Regulatory Information, second column, paragraph (k)(2)(i), sixth line, remove the phrase “September 15, 2001. If the HPC rear hook is.” and add in its place “March 15, 2002 or September 15, 2001. If the rear hook is.”

Also, on page 65492, in the Regulatory Information, the table for Documents That Have Been Incorporated by Reference is corrected by adding the following:

“PW CIR 51A357, section 72-35-68, Inspection/Check-04, Indexes 8-11 | All | Original | March 15, 2002.
Total pages: 5”

Also, on page 65493, in the Regulatory Information, first column, thirteenth line, remove the phrase “PW4ENG72-749, dated June 17, 2002, EM” and add in its place “PW4ENG72-749, dated June 17, 2002, CIR 51A357, section 72-35-68, Inspection/Check-04, Indexes 8-11, dated March 15, 2002, EM”.

Issued in Burlington, MA, on November 13, 2002.
Mark C. Fulmer,
Acting Manager, Engine and Propeller Directorate, Aircraft Certification Service.

[FR Doc. 02-29672 Filed 12-5-02; 8:45 am]

BILLING CODE 4910-13-P